ENVIRONMENTAL PROTECTION AGENCY

40 CFR Part 52

[EPA-R04-OAR-2009-0140; FRL-9810-8]

Approval and Promulgation of Implementation Plans; North Carolina; Control Techniques Guidelines and Reasonably Available Control Technology

AGENCY: Environmental Protection Agency (EPA).

ACTION: Final rule.

SUMMARY: EPA is approving several State Implementation Plan (SIP) revisions submitted to EPA by the State of North Carolina, through the North Carolina Department of Environment and Natural Resources (NC DENR), to address the nitrogen oxides (NOX) reasonably available control technology (RACT) requirements for the North Carolina portion of the Charlotte-Gastonia-Rock Hill, North Carolina—South Carolina 1997 8-hour ozone nonattainment area (hereafter referred to as the “bi-state Charlotte Area”). The bi-state Charlotte Area for the 1997 8-hour ozone national ambient air quality standards (NAAQS) includes six full counties and one partial county in North Carolina; and one partial county in South Carolina. Additionally, EPA is approving in part, and conditionally approving in part, several SIP revisions to address the volatile organic compounds (VOC) RACT requirements which include related control technology guidelines (CTG) requirements. Together, these SIP revisions establish the RACT requirements for sources located in the North Carolina portion of the bi-state Charlotte Area. In a separate rulemaking, EPA has already taken action on RACT and CTG requirements for the South Carolina portion of the bi-state Charlotte Area. EPA has evaluated the revisions to North Carolina's SIP, and has made the determination that they are consistent, with the exception of applicability for some CTG VOC sources, with statutory and regulatory requirements and EPA guidance. With respect to the applicability provisions for the CTG VOC sources noted above, EPA is finalizing a conditional approval of these provisions.

DATES: Effective Date: This rule will be effective June 10, 2013.

ADDRESSES: EPA has established a docket for this action under Docket Identification No. EPA-R04-OAR-2009-0140. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m. excluding federal holidays.

FOR FURTHER INFORMATION CONTACT: Jane Spann, Regulatory Development Section, Air Planning Branch, Air, Pesticides and Toxics Management Division, Region 4, U.S. Environmental Protection Agency, 61 Forsyth Street, SW., Atlanta, Georgia 30303-8960. The telephone number is (404) 562-9029. Ms. Spann can also be reached via electronic mail at spann.jane@epa.gov.

SUPPLEMENTARY INFORMATION:

Table of Contents

I. Background

II. This Action

III. Final Action

IV. Statutory and Executive Order Reviews

I. Background

On April 30, 2004, EPA designated the bi-state Charlotte Area as a moderate nonattainment area with respect to the 1997 8-hour ozone NAAQS.¹ See 69 FR 23858. The bi-state Charlotte Area includes six full counties and one partial county in North Carolina; and one partial county in South Carolina. The North Carolina portion of the bi-state Charlotte Area consists of Cabarrus, Gaston, Lincoln, Mecklenburg, Rowan, Union and a portion of Iredell County which includes Davidson and Coddle Creek Townships.² The South Carolina portion of the bi-state Charlotte Area consists of the portion of York County, South Carolina that falls within the Rock Hill-Fort Mill Area Transportation Study Metropolitan Planning Organization Area. As a result of this moderate nonattainment designation, North Carolina and South Carolina were required to amend their SIPs for their respective portions of the bi-state Charlotte Area to satisfy the requirements of section 182 of the Clean Air Act (CAA or Act). Today's action specifically addresses the North Carolina portion of the bi-state Charlotte Area. EPA approved the RACT requirements for the South Carolina portion of the bi-state Charlotte Area on November 28, 2011. See 76 FR 72844.

¹ Portions of the bi-state Charlotte Area were previously designated as a moderate nonattainment area for the 1-hour ozone NAAQS. The Area was subsequently redesignated to attainment for the 1-hour ozone NAAQS, and a maintenance plan was approved into the North Carolina SIP. The original Charlotte-Gastonia, North Carolina 1-hour moderate ozone nonattainment area consisted of Mecklenburg and Gaston counties in North Carolina.

² Effective July 20, 2012, EPA designated one full county and six partial counties in the bi-state Charlotte area as a marginal nonattainment area for the 2008 8-hour ozone NAAQS. Today's final rulemaking regarding RACT is not related to requirements for the 2008 8-hour ozone NAAQS.

Section 172(c)(1) of the CAA requires SIPs to provide for the implementation of all reasonably available control measures (RACM) as expeditiously as practicable. RACT, a subset of RACM, relates specifically to stationary point sources. Section 182(b)(2) of the CAA requires states to adopt RACT rules for all areas designated nonattainment for ozone and classified as moderate or above. The three parts of the section 182(b)(2) RACT requirements are: (1) RACT for sources covered by an existing CTG (i.e., a CTG issued prior to enactment of the 1990 amendments to the CAA); (2) RACT for sources covered by a post-enactment CTG; and (3) all major sources not covered by a CTG (i.e., non-CTG sources). Pursuant to 40 CFR 51.165, a major source for a moderate ozone area is a source that emits 100 tons per year (tpy) or more of VOC or NOX. 3 4 If no major sources of VOC or NOX emissions (each pollutant should be considered separately) in a particular source category exist in an applicable nonattainment area, a state may submit a negative declaration for that category. For more information regarding the RACT requirements, including requirements and schedules for sources covered by CTGs, see EPA's March 13, 2013, proposed rulemaking related to this final action at 78 FR 15895.

³ The emission threshold is based on an area's nonattainment designation classification. Section 182 of the CAA and 40 CFR 51.912(b) define “major source” for ozone nonattainment areas to include sources which emit or which have the potential to emit 100 tpy or more of VOC or NOX (ozone precursors) in areas classified as “marginal” or “moderate,” 50 tpy or more of these ozone precursors in areas classified as “serious,” 25 tpy or more of these ozone precursors in areas classified as “severe,” and 10 tpy or more of these ozone precursors in areas classified as “extreme.” The bi-state Charlotte Area is a moderate nonattainment area.

⁴ Section 182(b)(2) also requires that all CTG source category sources, including those with less than 100 tpy emissions, meet RACT. CTG sources are addressed later in this document.

II. This Action

EPA is approving several SIP revisions submitted to EPA by the State of North Carolina, through NC DENR, to address the NOX RACT requirements for the North Carolina portion of the bi-state Charlotte Area. Additionally, EPA is approving in part, and conditionally approving in part, several SIP revisions to address the VOC RACT requirements and related CTG requirements. Specifically, North Carolina submitted SIP revisions on October 14, 2004, April 6, 2007, June 15, 2007, January 31, 2008, November 19, 2008, September 18, 2009, February 3, 2010, April 6, 2010, and November 9, 2010, to address NOX RACT, VOC RACT and CTG requirements. Together, these SIP revisions establish the RACT requirements for the major sources located in the North Carolina portion of the bi-state Charlotte Area. In a separate rulemaking, EPA has already taken action on RACT and CTG requirements for the South Carolina portion of the bi-state Charlotte Area.

Today, EPA is approving the portions of five of the aforementioned SIP revisions as they relate to RACT requirements for the North Carolina portion of the bi-state Charlotte Area.⁵ In addition to the SIP revisions, or portions of SIP revisions for which EPA is taking final approval, NC DENR submitted a letter on August 30, 2012, requesting that EPA conditionally approve portions of previously-submitted SIP revisions as they relate to VOC RACT and CTG requirements.⁶ Specifically, NC DENR committed to submit specific enforceable SIP revisions to provide, within one year of EPA's final rulemaking, appropriate applicability thresholds for VOC RACT for all sources addressed by CTG in the Area. A copy of NC DENR's letter is provided in the docket for today's rulemaking and can be accessed at www.regulations.gov using docket ID: EPA-R04-OAR-2009-0140. Consistent with section 110(k)(4), EPA is conditionally approving portions of five of the aforementioned SIP revisions as they relate to VOC RACT and CTG requirements for the Area. Comprehensively, these SIP revisions address NOX RACT, VOC RACT and CTG requirements for the Area.⁷

⁵ SIP revisions submitted on April 6, 2007, June 15, 2007, January 31, 2008, November 19, 2008, and February 3, 2010.

⁶ SIP revisions submitted on October 14, 2004, April 6, 2007, January 31, 2008, September 18, 2009, and November 9, 2010. See Section III below for additional information regarding the conditional approvals.

⁷ South Carolina previously met the RACT requirements for the South Carolina portion of the bi-state Charlotte Area.

On March 13, 2013, EPA proposed to approve in part, and conditionally approve in part, the aforementioned SIP revisions provided by NC DENR to address NOX and VOC RACT requirements. See 78 FR 15895. No comments, adverse or otherwise, were received on EPA's March 13, 2013, proposed rulemaking. EPA has evaluated the proposed revisions to North Carolina's SIP, and has made the determination that they are consistent with statutory and regulatory requirements and EPA guidance except for the applicability of the CTG VOC requirements to some sources. For further information regarding the conditionally approved rules, see Section II. A. (a), (b), (d), (f), and (i) of the proposed rulemaking for this action. See 78 FR 15895 (March 13, 2013). Consistent with section 110(k)(4) of the Act, EPA is relying upon a commitment by North Carolina to include appropriate applicability thresholds for VOC RACT for the all sources addressed by CTG in the Area as a basis for conditionally approving North Carolina's SIP revisions as they relate to VOC RACT. If the State fails to submit a SIP revision to correct the aforementioned deficiencies by May 9, 2014 today's conditional approval will automatically become a disapproval on that date and EPA will issue a finding of disapproval.

III. Final Action

EPA is taking final action to approve, in part, and conditionally approve in part, North Carolina SIP revisions submitted on October 14, 2004, April 6, 2007, June 15, 2007, January 31, 2008, November 19, 2008, September 18, 2009, February 3, 2010, April 6, 2010, and November 9, 2010, to address NOX RACT, VOC RACT and CTG requirements. Together, these SIP revisions establish the RACT requirements for the major sources located in the North Carolina portion of the bi-state Charlotte Area. EPA is approving in part, and conditionally approving in part these SIP revisions because they are consistent with the CAA and requirements related to VOC and NOX RACT.

IV. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 8, 2013. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Reporting and recordkeeping requirements, Volatile organic compounds.

Dated: April 29, 2013.
A. Stanley Meiburg,
Acting Regional Administrator, Region 4.

40 CFR part 52 is amended as follows:

PART 52—APPROVAL AND PROMULGATION OF IMPLEMENTATION PLANS

1. The authority citation for part 52 continues to read as follows:

Authority: 42.U.S.C. 7401 et seq.

Subpart II—North Carolina

2. Section 52.1770(c) Table 1, is amended under Subchapter 2D:

a. At section .0900 by:

i. Adding the entries for “Sect .0929,” “Sect .0961,” “Sect .0962,” “Sect .0963,” “Sect .0964,” “Sect .0965,” “Sect .0966,” “Sect .0967” and “Sect .0968;” and

ii. Revising the entries for “Sect .0901,” “Sect .0902,” “Sect .0909,” “Sect .0912,” “Sect .0913,” “Sect .0914,” “Sect .0915,” “Sect .0916,” “Sect .0917,” “Sect .0920,” “Sect .0921,” “Sect .0922,” “Sect .0923,” “Sect .0927,” “Sect .0930,” “Sect .0932,” “Sect .0933,” “Sect .0934,” “Sect .0935,” “Sect .0936,” “Sect .0939,” “Sect .0940,” “Sect .0941,” “Sect .0942,” “Sect .0943,” “Sect .0945,” “Sect .0951;”

b. At section .1400 by:

i. Revising the title to read “Section .1400 Nitrogen Oxides;”

ii. Adding the entries for “Sect .1407,” “Sect .1408,” “Sect .1410,” “Sect .1411,” “Sect .1412,” and “Sect .1415;” and

3. Revising the entries for “Sect .1402,” “Sect .1403,” “Sect .1404,” “Sect .1409,” “Sect .1416,” “Sect .1417,” “Sect .1418,” “Sect .1419,” “Sect .1420,” “Sect .1421,” and “Sect .1422;” and

c. By adding a new section entitled “Section .2600 Source Testing” and adding the new entries for “Sect .2601,” “Sect .2602,” “Sect .2603,” “Sect .2604,” “Sect .2605,” “Sect .2606,” “Sect .2607,” “Sect .2608,” “Sect .2612,” “Sect .2613,” “Sect .2614,” “Sect .2615,” and “Sect .2621” to read as follows:

§ 52.1770 Identification of plan.

* * * * *

(c) * * *

Table 1—EPA Approved North Carolina Regulations
State citation | Title/subject | State effective date | EPA approval date | Explanation
Subchapter 2D Air Pollution Control Requirements
* * * * * * *
Section .0900 Volatile Organic Compounds
Sect .0901 | Definitions | 1/1/2009 | 5/9/2013 [Insert citation of publication]
Sect .0902 | Applicability | 9/1/2010 | 5/9/2013 [Insert citation of publication] | Conditional approval of rule .0902 as submitted on 10/14/2004 (with the exception of the start-up shutdown language as described in Section II. A. a. of EPA's 3/13/2013 proposed rule (78 FR 15895)), 4/6/2007, 1/31/2008, 9/18/2009, and 11/9/2010.
* * * * * * *
Sect .0909 | Compliance Schedules for Sources in Nonattainment Areas | 9/1/2010 | 5/9/2013 [Insert citation of publication] | Conditional approval of rule .0909 as submitted on 4/6/2007, 1/31/2008, 9/18/2009, and 11/9/2010.
* * * * * * *
Sect .0912 | General Provisions on Test Methods and Procedures | 3/13/2008 | 5/9/2013 [Insert citation of publication]
Sect .0913 | Determination of Volatile Content of Surface Coatings | 3/13/2008 | 5/9/2013 [Insert citation of publication] | Repealed.
Sect .0914 | Determination of VOC Emission Control System Efficiency | 3/13/2008 | 5/9/2013 [Insert citation of publication] | Repealed.
Sect .0915 | Determination of Solvent Metal Cleaning VOC Emissions | 6/1/2008 | 5/9/2013 [Insert citation of publication] | Repealed.
Sect .0916 | Determination: VOC Emissions From Bulk Gasoline Terminals | 6/1/2008 | 5/9/2013 [Insert citation of publication] | Repealed.
Sect .0917 | Automobile and Light Duty Truck Manufacturing | 9/1/2010 | 5/9/2013 [Insert citation of publication] | Repealed.
* * * * * * *
Sect .0920 | Paper Coatings | 9/1/2010 | 5/9/2013 [Insert citation of publication] | Repealed.
Sect .0921 | Fabric and Vinyl Coating | 9/1/2010 | 5/9/2013 [Insert citation of publication] | Repealed.
Sect .0922 | Metal Furniture Coating | 9/1/2010 | 5/9/2013 [Insert citation of publication]
Sect .0923 | Surface Coating of Large Appliance Parts | 9/1/2010 | 5/9/2013 [Insert citation of publication]
* * * * * * *
Sect .0927 | Bulk Gasoline Terminals | 6/1/2008 | 5/9/2013 [Insert citation of publication]
* * * * * * *
Sect .0929 | Petroleum Refinery Sources | 4/6/2010 | 5/9/2013 [Insert citation of publication] | Repealed—North Carolina made a negative declaration for VOC emissions from bulk gasoline plants on 4/6/2010.
Sect .0930 | Solvent Metal Cleaning | 6/1/2008 | 5/9/2013 [Insert citation of publication]
* * * * * * *
Sect .0932 | Gasoline Truck Tanks and Vapor Collection Systems | 11/7/2007 | 5/9/2013 [Insert citation of publication]
Sect .0933 | Petroleum Liquid Storage in External Floating Roof Tanks | 8/1/2004 | 5/9/2013 [Insert citation of publication]
Sect .0934 | Coating of Miscellaneous Metal Parts and Products | 9/1/2010 | 5/9/2013 [Insert citation of publication] | Repealed.
Sect .0935 | Factory Surface Coating of Flat Wood Paneling | 9/1/2010 | 5/9/2013 [Insert citation of publication]
Sect .0936 | Graphic Arts | 9/1/2010 | 5/9/2013 [Insert citation of publication] | Repealed.
* * * * * * *
Sect .0939 | Determination of Volatile Organic Compound Emissions | 3/13/2008 | 5/9/2013 [Insert citation of publication] | Repealed.
Sect .0940 | Determination of Leak Tightness and Vapor Leaks | 3/13/2008 | 5/9/2013 [Insert citation of publication] | Repealed.
Sect .0941 | Alternative Method for Leak Tightness | 3/13/2008 | 5/9/2013 [Insert citation of publication] | Repealed.
Sect .0942 | Determination of Solvent in Filter Waste | 3/13/2008 | 5/9/2013 [Insert citation of publication] | Repealed.
Sect .0943 | Synthetic Organic Chemical and Polymer Manufacturing | 11/7/2007 | 5/9/2013 [Insert citation of publication]
* * * * * * *
Sect .0945 | Petroleum Dry Cleaning | 11/7/2007 | 5/9/2013 [Insert citation of publication]
* * * * * * *
Sect .0951 | RACT for Sources of Volatile Organic 3 Compounds | 9/1/2010 | 5/9/2013 [Insert citation of publication] | Conditional approval of rule .0951 as submitted on 11/9/2010.
* * * * * * *
Sect .0961 | Offset Lithographic Printing and Letterpress Printing | 9/1/2010 | 5/9/2013 [Insert citation of publication] | Conditional approval of rule .0961 as submitted on 11/9/2010.
Sect .0962 | Industrial Cleaning Solvents | 9/1/2010 | 5/9/2013 [Insert citation of publication] | Conditional approval of rule .0962 as submitted on 11/9/2010.
Sect .0963 | Fiberglass Boat Manufacturing | 9/1/2010 | 5/9/2013 [Insert citation of publication]
Sect .0964 | Miscellaneous Industrial Adhesives | 9/1/2010 | 5/9/2013 [Insert citation of publication]
Sect .0965 | Flexible Package Printing | 9/1/2010 | 5/9/2013 [Insert citation of publication]
Sect .0966 | Paper Film and Foil Coatings | 9/1/2010 | 5/9/2013 [Insert citation of publication]
Sect .0967 | Miscellaneous Metal and Plastic Parts Coatings | 9/1/2010 | 5/9/2013 [Insert citation of publication]
Sect .0968 | Automobile and Light Duty Truck Assembly Coatings | 9/1/2010 | 5/9/2013 [Insert citation of publication]
* * * * * * *
Section .1400 Nitrogen Oxides
* * * * * * *
Sect .1402 | Applicability | 1/1/2010 | 5/9/2013 [Insert citation of publication]
Sect .1403 | Compliance Schedules | 7/1/2007 | 5/9/2013 [Insert citation of publication]
Sect .1404 | Recordkeeping: Reporting: Monitoring | 5/1/2004 | 5/9/2013 [Insert citation of publication]
Sect .1407 | Boilers and Indirect Process Heaters | 7/15/2002 | 5/9/2013 [Insert citation of publication]
Sect .1408 | Stationary Combustion Turbines | 7/15/2002 | 5/9/2013 [Insert citation of publication]
Sect .1409 | Stationary Internal Combustion Turbines | 3/13/2008 | 5/9/2013 [Insert citation of publication]
Sect .1410 | Emissions Averaging | 3/13/2008 | 5/9/2013 [Insert citation of publication]
Sect .1411 | Seasonal Fuel Switching | 3/13/2008 | 5/9/2013 [Insert citation of publication]
Sect .1412 | Petition for Alternative Limitations | 3/13/2008 | 5/9/2013 [Insert citation of publication]
Sect .1415 | Test Methods and Procedures | 3/13/2008 | 5/9/2013 [Insert citation of publication]
Sect .1416 | Emission Allocations for Utility Companies | 3/13/2008 | 5/9/2013 [Insert citation of publication] | Repealed.
Sect .1417 | Emission Allocations for Large Combustion Sources | 3/13/2008 | 5/9/2013 [Insert citation of publication] | Repealed.
Sect .1418 | New Electric Generating Units, Large Boilers, and Large Internal Combustion Engines | 3/13/2008 | 5/9/2013 [Insert citation of publication]
Sect .1419 | Nitrogen Oxide Budget Trading Program | 3/13/2008 | 5/9/2013 [Insert citation of publication] | Repealed.
Sect .1420 | Periodic Review and Reallocations | 3/13/2008 | 5/9/2013 [Insert citation of publication] | Repealed.
Sect .1421 | Allocations for New Growth of Major Point Sources | 3/13/2008 | 5/9/2013 [Insert citation of publication] | Repealed.
Sect .1422 | Compliance Supplement Pool Credits | 3/13/2008 | 5/9/2013 [Insert citation of publication] | Repealed.
* * * * * * *
Section .2600 Source Testing
Sect .2601 | Purpose and Scope | 3/13/2008 | 5/9/2013 [Insert citation of publication]
Sect .2602 | General Provisions on Test Methods | 3/13/2008 | 5/9/2013 [Insert citation of publication]
Sect .2603 | Testing Protocol | 3/13/2008 | 5/9/2013 [Insert citation of publication]
Sect .2604 | Number of Test Points | 3/13/2008 | 5/9/2013 [Insert citation of publication]
Sect .2605 | Velocity and Volume Flow Rate | 3/13/2008 | 5/9/2013 [Insert citation of publication]
Sect .2606 | Molecular Weight | 3/13/2008 | 5/9/2013 [Insert citation of publication]
Sect .2607 | Determination of Moisture Content | 3/13/2008 | 5/9/2013 [Insert citation of publication]
Sect .2608 | Number of Runs and Compliance Determination | 3/13/2008 | 5/9/2013 [Insert citation of publication]
Sect .2612 | Nitrogen Oxide Testing Methods | 3/13/2008 | 5/9/2013 [Insert citation of publication]
Sect .2613 | Volatile Organic Compound Testing Methods | 3/13/2008 | 5/9/2013 [Insert citation of publication]
Sect .2614 | Determination of VOC Emission Control System | 3/13/2008 | 5/9/2013 [Insert citation of publication]
Sect .2615 | Determination of Leak Tightness and Vapor Leaks | 3/13/2008 | 5/9/2013 [Insert citation of publication]
Sect .2621 | Determination of Fuel Heat Content Using F-Factor | 3/13/2008 | 5/9/2013 [Insert citation of publication]
| * * * * * * *

* * * * *

[FR Doc. 2013-10944 Filed 5-8-13; 8:45 am]

BILLING CODE 6560-50-P